FEDERAL COMMUNICATIONS COMMISSION

47 CFR Part 73

[DA No. 00-916, MM Docket No. 00-69, RM-9850]

Radio Broadcasting Services; Cheboygan and Rogers City, MI

AGENCY: Federal Communications Commission.

ACTION: Proposed rule.

SUMMARY: This document requests comments on a petition filed by Escanaba License Corp. proposing the allotment of Channel 260C2 at Cheboygan, Michigan. The coordinates for Channel 260C2 at Cheboygan are 45-33-53 and 84-07-54. There is a site restriction 28.7 kilometers (17.8 miles) east of the community. To accommodate the new allotment at Cheboygan, we shall also propose to substitute Channel 292C2 for Channel 260C2 at Rogers City, Michigan, and modification of the license for Station WHAK to specify operation on Channel 292C2. The coordinates for Channel 292C2 at Rogers City are 45-23-53 and 83-55-19. Canadian concurrence will be requested for the allotments at Cheboygan and Rogers City, Michigan.

DATES: Comments must be filed on or before June 16, 2000, and reply comments on or before July 3, 2000.

ADDRESSES: Federal Communications Commission, Washington, DC 20554. In addition to filing comments with the FCC, interested parties should serve the petitioner, as follows: Lyle Robert Evans, President, Escanaba License Corp., 1101 Ludington Street, Escanaba, Michigan 49829.

FOR FURTHER INFORMATION CONTACT: Kathleen Scheuerle, Mass Media Bureau, (202) 418-2180.

SUPPLEMENTARY INFORMATION: This is a summary of the Commission's Notice of Proposed Rule Making, MM Docket No. 00-69, adopted April 12, 2000, and released April 25, 2000. The full text of this Commission decision is available for inspection and copying during normal business hours in the Commission's Reference Center, Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-11912 Filed 5-11-00; 8:45 am]

BILLING CODE 6712-01-P